DEPARTMENT OF COMMERCE

National Oceanic and Atmospheric Administration

Management Plan for South Slough, Oregon National Estuarine Research Reserve

AGENCY: Stewardship Division, Office for Coastal Management, National Ocean Service, National Oceanic and Atmospheric Administration, U.S. Department of Commerce.

ACTION: Notice of Approval for the South Slough, Oregon National Estuarine Research Reserve Management Plan revision.

SUMMARY: The notice is hereby given that the Stewardship Division, Office for Coastal Management, National Ocean Service, National Oceanic and Atmospheric Administration (NOAA), U.S. Department of Commerce approves the revised Management Plan for South Slough, Oregon National Estuarine Research Reserve Management Plan. In accordance, the South Slough Reserve revised its Management Plan, which will replace the plan previously approved in 2006.

SUPPLEMENTARY INFORMATION: The National Estuarine Research Reserve System (NERRS) is a federal-state partnership administered by NOAA. The system protects more than 1.3 million acres of estuarine habitat for long-term research, monitoring, education, and stewardship throughout the coastal United States. Established by the Coastal Zone Management Act of 1972, as amended, each Reserve is managed by a lead state agency or university, with input from local partners. NOAA provides funding and national programmatic guidance.

The revised Management Plan outlines the administrative structure; the Reserve's science and education programs; public uses; resource protection plan; and the plans for future land acquisition and facility development to support Reserve operations.

The South Slough Reserve takes an integrated approach to management, linking research, education, coastal training, public involvement, and stewardship functions. The Reserve has outlined how it will manage administration and its core program providing detailed actions that will enable it to accomplish specific goals and objectives. Since the last Management Plan, the Reserve has built out its core programs and monitoring infrastructure; conducted an educational market analysis and needs assessment to better meet teacher needs; developed a Reserve Disaster Response Plan; and improved public access to the Reserve through construction of a new paddle launch, enhancements to the visitor center, and new water and land trails.

On April 14, 2017, NOAA issued a notice of a thirty (30) day public comment period for the South Slough Reserve revised plan (82 FR 17974). Responses to the public comments received, and an explanation of how comments were incorporated into the final revised plan, are available in Appendix H of the revised plan.

The revised Management Plan will serve as the guiding document for the 4,771-acre South Slough Reserve. View the South Slough, Oregon Reserve Management Plan at http://www.oregon.gov/dsl/SS/Documents/SouthSloughReserve2017-2022ManagementPlan.pdf. The impacts of the revised Management Plan have not changed and the initial Environmental Impact Statement prepared at the time of designation is still valid. NOAA has made the determination that the revision of the Management Plan will not have a significant effect on the human environment and therefore qualifies for a categorical exclusion under NOAA Administrative Order 216-6A. An environmental assessment will not be prepared.

FOR FURTHER INFORMATION CONTACT: Bree Turner at (206) 526-4641 or Erica Seiden at (301) 563-1172 of NOAA's National Ocean Service, Stewardship Division, Office for Coastal Management, 1305 East-West Highway, N/ORM5, 10th floor, Silver Spring, MD 20910.

Dated: August 18, 2017.
Paul M. Scholz,
Deputy Director, Office for Coastal Management, National Ocean Service, National Oceanic and Atmospheric Administration.

Federal Domestic Assistance Catalog 11.420

Coastal Zone Management Program Administration

[FR Doc. 2017-17946 Filed 8-23-17; 8:45 am]

BILLING CODE 3510-22-P